DEPARTMENT OF HEALTH AND HUMAN SERVICES

Administration for Community Living

Agency Information Collection Activities: Proposed Collection; Public Comment Request; of ACL's Lifespan Respite Program Grantee Performance Measurement Reporting Tool

AGENCY: Administration for Community Living, Department of Health and Human Services.

ACTION: Notice.

SUMMARY: The Administration for Community Living (ACL) is announcing an opportunity for the public to comment on the proposed collection of information listed above. Under the Paperwork Reduction Act of 1995 (PRA), Federal agencies are required to publish a notice in the Federal Register concerning each proposed collection of data or other information and to allow 60 days for public comment in response to the notice. This information collection (IC) solicits comments on the IC requirements, outlined in the Lifespan Respite Care Reauthorization Act of 2020, Section 2904, which requires Lifespan Respite Care Program grantees to report data, information, and metrics for the purpose of program evaluation. Such data, information, and metrics are to be used to identify “. . . effective programs and activities funded . . .” through ACL's Lifespan Respite Care Program grants.

DATES: Comments on the collection of information must be submitted electronically by 11:59 p.m. (EST) or postmarked by December 27, 2022.

ADDRESSES: Submit electronic comments on the collection of information to: Emily Anozie, Email: emily.anozie@acl.hhs.gov, Phone: (202) 795-7347. Submit written comments on the collection of information to Administration for Community Living, 330 C Street SW, Washington, DC, 20201, Attention: Emily Anozie.

FOR FURTHER INFORMATION CONTACT: Emily Anozie, Email emily.anozie@acl.hhs.gov, or Phone (202) 795-7347.

SUPPLEMENTARY INFORMATION: Under the PRA (44 U.S.C. 3501-3520), Federal agencies must obtain approval from the Office of Management and Budget (OMB) for each collection of information they conduct or sponsor. “Collection of information” is defined in the PRA and includes agency requests or requirements that members of the public submit reports, keep records, or provide information to a third party. The PRA requires Federal agencies to provide a 60-day notice in the Federal Register concerning each proposed collection of information before submitting the collection to OMB for approval. To comply with this requirement, ACL is publishing a notice of the proposed collection of information set forth in this document. With respect to the following collection of information, ACL invites comments on our burden estimates or any other aspect of this collection of information, including:

(1) whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected;

(4) ways to minimize the burden of the collection of information on respondents, including through the use of automated collection techniques when appropriate, and other forms of information technology; and

(5) this IC collects Caregiver and Care Recipient demographics. Demographic questions include information about age, gender identity, transgender, sexual orientation, geographic location, ethnicity, and race. Racial equity and sexual orientation and gender identity (SOGI) data elements are consistent with recommendations regulated under Executive Order on Advancing Racial Equity and Support for Underserved Communities Through the Federal Government and the Executive Order on Advancing Equality for Lesbian, Gay, Bisexual, Transgender, Queer, and Intersex Individuals.

ACL's Office of Supportive and Caregiver Services aims to improve Lifespan Respite Care Program grantee performance measurement and tracking through a new quantitative grantee reporting tool. The existing reporting template used by most ACL grantees funded from discretionary sources consists of four open-ended, narrative questions related to program implementation and outputs, making comparisons between different grant periods and grantees challenging. The proposed tool will allow ACL to meet the additional requirements stated in Section 2904 of the Lifespan Respite Care Reauthorization Act of 2020, by adding quantitative data elements to the existing reporting requirements in accordance with program statute. This tool will allow for more effective tracking of how federal funds are being used, including aggregate data on people served and program development toward stated goals.

In this IC, the new quantitative grant reporting tool will be disseminated to all new Lifespan Respite Program grantees upon grant award. Specifically, the tool will collect information related to respite care services delivered, caregiver demographics, care recipient demographics, respite training, and lifespan respite program systems and providers. Ultimately, this reporting will assist ACL's Office of Supportive and Caregiver Services to assess the performance of the Lifespan Respite Program grantees in improving the delivery and quality of respite services for family caregivers of children and adults of all ages with special needs.

The proposed data collection tools may be found on the ACL website for review at: https://www.acl.gov/about-acl/public-input.

Estimated Program Burden: ACL estimates the burden of this collection of information as follows:

A maximum of 40 grantees are expected to respond to the grant reporting tool semiannually. The approximate burden for completion may be 6 hours per respondent for a total estimate of 480 hours. The estimated completion burden includes time to review the instructions, read the questions, compile information, and complete responses.

IC Burden Chart
Respondent/data collection activity | Number of respondents | Responses per respondent | Hours per response | Annual burden hours
Grantee reporting tool | 40 | 2 | 6 | 480
Total |  |  |  | 480

Dated: October 21, 2022.
Alison Barkoff,
Acting Administrator and Assistant Secretary for Aging.

[FR Doc. 2022-23363 Filed 10-26-22; 8:45 am]

BILLING CODE 4154-01-P